INTERNATIONAL TRADE COMMISSION

Sunshine Act Meeting

AGENCY HOLDING THE MEETING: United States International Trade Commission.

TIME AND DATE: August 30, 2000 at 11:00 a.m.

PLACE: Room 101, 500 E Street S.W., Washington, DC 20436, Telephone: (202) 205-2000.

status: Open to the public.

MATTERS TO BE CONSIDERED:

1. Agenda for future meeting: None.

2. Minutes.

3. Ratification List.

4. Inv. Nos. 731-TA-885-887 (Preliminary) (Desktop Note Counters and Scanners from China, Korea, and the United Kingdom)—briefing and vote. (The Commission is currently scheduled to transmit its determination to the Secretary of Commerce on August 31, 2000; Commissioners' opinions are currently scheduled to be transmitted to the Secretary of Commerce on September 8, 2000.)

5. Outstanding action jackets:

(1) Document No. EC-00-015: Approval of final report in Inv. No. 332-412 (The Year in Trade 1999, Operation of the Trade Agreements Program, 51st Report).

In accordance with Commission policy, subject matter listed above, not disposed of at the scheduled meeting, may be carried over to the agenda of the following meeting.

By order of the Commission.
Issued: August 22, 2000.
Donna R. Koehnke,
Secretary.

[FR Doc. 00-21763 Filed 8-22-00; 1:30 pm]

BILLING CODE 7020-02-M